SECURITIES AND EXCHANGE COMMISSION

[Release No. 34-69863; File No. SR-BOX-2013-32]

Self-Regulatory Organizations; BOX Options Exchange LLC; Notice of Filing and Immediate Effectiveness of a Proposed Rule Change To Amend BOX Rule 7130 (Execution and Price/Time Priority) To Adjust the NBBO Exposure Period

June 26, 2013.

Correction

In notice document 2013-15780 beginning on page 39805 in the issue of Tuesday, July 2, 2013, make the following correction:

On page 39805, in the first column, the heading is corrected to read as set forth above.

[FR Doc. C1-2013-15780 Filed 7-15-13; 8:45 am]

BILLING CODE 1505-01-D